DEPARTMENT OF ENERGY

Notice of Orders Issued Under Section 3 of the Natural Gas Act During December 2017

| FE Docket Nos.
RAINBOW ENERGY MARKETING CORPORATION | 17-148-NG
VALLEY CROSSING PIPELINE, LLC | 17-146-NG
COAHUILA ENERGY | 17-150-NG
CONOCOPHILLIPS CANADA MARKETING &TRADING ULC | 17-147-NG
FREEPORT LNG DEVELOPMENT, L.P | 17-151-LNG
BP WEST COAST PRODUCTS LLC | 17-42-NG

AGENCY: Office of Fossil Energy, Department of Energy.

ACTION: Notice of orders.

SUMMARY: The Office of Fossil Energy (FE) of the Department of Energy gives notice that during December 2017, it issued orders granting authority to import and export natural gas, and to import and export liquefied natural gas (LNG). These orders are summarized in the attached appendix and may be found on the FE website at http://energy.gov/fe/listing-doefe-authorizationsorders-issued-2017.

They are also available for inspection and copying in the U.S. Department of Energy (FE-34), Division of Natural Gas Regulation, Office of Regulation and International Engagement, Office of Fossil Energy, Docket Room 3E-033, Forrestal Building, 1000 Independence Avenue SW, Washington, DC 20585, (202) 586-9478. The Docket Room is open between the hours of 8:00 a.m. and 4:30 p.m., Monday through Friday, except Federal holidays.

Issued in Washington, DC, on January 24, 2018.
Robert J. Smith,
Deputy Assistant Secretary for Oil and Natural Gas (Acting).

Appendix

DOE/FE Orders Granting Import/Export Authorizations
4126 | 12/5/17 | 17-148-NG | Rainbow Energy Marketing Corporation | Order 4126 granting blanket authority to import/export natural gas from/to Canada/Mexico.
4127 | 12/5/17 | 17-146-NG | Valley Crossing Pipeline, LLC | Order 4127 granting blanket authority to import/export natural gas from/to Mexico.
4128 | 12/12/17 | 17-150-NG | Coahuila Energy | Order 4128 granting blanket authority to export natural gas to Mexico.
4129 | 12/12/17 | 17-147-NG | ConocoPhillips Canada Marketing & Trading ULC | Order 4129 granting blanket authority to import/export natural gas from/to Canada/Mexico.
4130 | 12/12/17 | 17-151-LNG | Freeport LNG Development, L.P | Order 4130 granting blanket authority to import LNG from various international sources by vessels.
4021-A | 12/12/17 | 17-42-NG | BP West Coast Products LLC | Order 4021-A vacating blanket authority to import/export natural gas from/to Canada.

[FR Doc. 2018-01707 Filed 1-29-18; 8:45 am]

BILLING CODE 6450-01-P